DEPARTMENT OF THE TREASURY

Internal Revenue Service

26 CFR Part 301

[TD 9344]

RIN 1545-BG24

Change to Office to Which Notices of Nonjudicial Sale and Requests for Return of Wrongfully Levied Property Must Be Sent; Correction

AGENCY: Internal Revenue Service (IRS), Treasury.

ACTION: Correction to final and temporary regulations.

SUMMARY: This document contains corrections to final and temporary regulations that were published in the Federal Register on Friday, July 20, 2007 relating to the discharge of liens under section 7425 and return of wrongfully levied property under section 6343.

FOR FURTHER INFORMATION CONTACT: Robin M. Ferguson at (202) 622-3630.

SUPPLEMENTARY INFORMATION:

Background

The final and temporary regulations (TD 9344) that are the subject of these corrections are under sections 7425 and 6343 of the Internal Revenue Code.

Need for Correction

As published, the final and temporary regulations (TD 9344) contain errors that may prove to be misleading and are in need of clarification.

Correction of Publication

Accordingly, the final and temporary regulations (TD 9344) that were the subject of FR Doc. E7-14053 are corrected as follows:

1. On page 39738, column 1, in the preamble, under the caption “FOR FURTHER INFORMATION CONTACT:”, line 2, the language “Robin M. Ferguson, (202) 622-3610 (not” is corrected to read “Robin M. Ferguson, (202) 622-3630 (not”.

2. On page 39739, column 1, in the preamble, under paragraph heading “Drafting Information”, lines 4 and 5, the language “and Administration (Collection, Bankruptcy and Summonses Division)” should be corrected to read “and Administration.”

LaNita Van Dyke,
Branch Chief, Publications and Regulations Branch, Legal Processing Division, Associate Chief Counsel (Procedure and Administration).

[FR Doc. E7-16651 Filed 8-22-07; 8:45 am]

BILLING CODE 4830-01-P